NEIGHBORHOOD REINVESTMENT CORPORATION

Sunshine Act Meetings

TIME AND DATE: 2:00 p.m., Thursday, August 17, 2023.

PLACE: 1255 Union Street NE, Fifth Floor, Washington, DC 20002.

STATUS: Parts of this meeting will be open to the public. The rest of the meeting will be closed to the public.

MATTERS TO BE CONSIDERED: Regular Board of Directors meeting.

The General Counsel of the Corporation has certified that in his opinion, one or more of the exemptions set forth in the Government in the Sunshine Act, 5 U.S.C. 552b(c)(2) and (4) permit closure of the following portion(s) of this meeting:

• Executive Session

Agenda

I. CALL TO ORDER

II. Sunshine Act Approval of Executive (Closed) Session

III. Executive Session: Report from CEO

IV. Executive Session: Report from CFO

V. Executive Session: GAO Workplan

VI. Executive Session: General Counsel Report

VII. Executive Session: CIO Report

VIII. Executive Session: NeighborWorks Compass Update

IX. Action Item Resolution of Recognition of Service for Chairman Gruenberg

X. Action Item Approval of Meeting Minutes

XI. Action Item FY2024 Preliminary Spend Plan

XII. Discussion Item August 3rd Special Audit Committee Report

XIII. Discussion Item Annual Ethics Review Follow Up

XIV. Discussion Item Professional Learning and Event Management Solution

XV. Discussion Item Atlanta Office Lease

XVI. Management Program Background and Updates

XVII. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2023-17215 Filed 8-8-23; 11:15 am]

BILLING CODE 7570-02-P